DEPARTMENT OF VETERANS AFFAIRS

Rehabilitation Research and Development Service Scientific Merit Review Board; Notice of Meetings

The Department of Veterans Affairs (VA) gives notice under the Federal Advisory Committee Act that the subcommittees of the Rehabilitation Research and Development Service Scientific Merit Review Board will meet from 8:00 a.m. to 5:00 p.m. on the dates indicated below:

Subcommittee | Date(s) | Location
Center and Research Enhancement Award Program | January 17, 2019 | Crystal City Marriott.
Chronic Medical Conditions and Aging | February 26, 2019 | 20 F Conference Center.
Sensory Systems & Communication Disorders | February 26, 2019 | 20 F Conference Center.
Career Development Program | February 26-27, 2019 | 20 F Conference Center.
Rehabilitation Engineering & Prosthetics/Orthotics | February 27, 2019 | 20 F Conference Center.
Spinal Cord Injury/Disorders & Neuropathic Pain | February 27, 2019 | 20 F Conference Center.
Musculoskeletal Health & Function | February 27-28, 2019 | 20 F Conference Center.
Behavioral Health & Social Reintegration | February 28, 2019 | 20 F Conference Center.
Regenerative Rehabilitation | February 28, 2019 | 20 F Conference Center.
Brain Health and Injury | February 28-March 1, 2019 | 20 F Conference Center.

The address of the meetings sites are:

20 F Conference Center, 20 F Street NW, Washington, DC 20001.

Crystal City Marriott at Reagan National Airport, 1999 Jefferson Davis Highway, Arlington, VA 22202.

The purpose of the Board is to review rehabilitation research and development applications and advise the Director, Rehabilitation Research and Development Service, and the Chief Research and Development Officer on the scientific and technical merit, the mission relevance, and the protection of human and animal subjects.

The subcommittee meetings will be open to the public for approximately one-half hour at the start of each meeting to cover administrative matters and to discuss the general status of the program. Members of the public who wish to attend the open portion of the teleconference sessions may dial 1 (800) 767-1750, participant code 35847. The remaining portion of each subcommittee meeting will be closed to the public for the discussion, examination, reference to, and oral review of the research applications and critiques. During the closed portion of each subcommittee meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

No oral or written comments will be accepted from the public for either portion of the meetings. Those who plan to attend (by phone or in person) the open portion of a subcommittee meeting must contact Tiffany Asqueri, Designated Federal Officer, Rehabilitation Research and Development Service, at Department of Veterans Affairs (10P9R), 810 Vermont Avenue NW, Washington, DC 20420, or email Tiffany.Asqueri@va.gov, at least five days before the meeting. For further information, please call Mrs. Asqueri at (202) 443-5757.

Dated: November 8, 2018.
LaTonya L. Small,
Federal Advisory Committee Management Officer.

[FR Doc. 2018-24758 Filed 11-13-18; 8:45 am]

BILLING CODE P